DEPARTMENT OF THE INTERIOR

Bureau of Land Management

[ID-340-1220-NY-254B]

Notice of Temporary Off-Highway Vehicle Restriction

AGENCY: Bureau of Land Management, Department of the Interior.

ACTION: Notice.

SUMMARY: Pursuant to 43 Code of Federal Regulations (CFR) Subpart 8364.1, § 8341.2 and § 9268.3, notice is hereby given that the Bureau of Land Management (BLM), Salmon Field Office will temporarily restrict motorized access on approximately 50 acres of public lands within an area known as “Tower Bottoms.”

DATES: The temporary restriction will take effect immediately with the publication of this notice in the Federal Register, and will continue for up to two years or until rescinded or modified by the authorized officer or designated Federal officer.

FOR FURTHER INFORMATION CONTACT: Steven Hartmann, Field Manager; BLM Salmon Field Office; 1206 South Challis Street, Salmon, Idaho 83467; (208) 756-5400, E-mail: steven_hartmann@blm.gov.

SUPPLEMENTARY INFORMATION: The BLM is implementing this temporary restriction to minimize damage to soil, vegetation, and wildlife habitat caused by unregulated use of off-highway vehicles. The temporary restriction will enable the BLM to properly inventory and assess existing natural, cultural and recreational resources on recently acquired lands to complete necessary land use planning to determine appropriate levels of motorized use.

The temporary restriction includes public lands within the Boise Meridian, Lemhi County, in portions of: Sections 7 and 18 of T23 N, R22 E; and Sections 12 and 13 of T23 N, R21 E. These lands are located along Idaho Highway 93 North, approximately 10 miles north of the City of Salmon, Idaho. The public lands within this restriction were recently acquired with Land and Water Conservation Fund appropriations for the purpose of preserving, protecting and enhancing riparian and wildlife values along the Salmon River Corridor.

Employees of the BLM and other local, state, and Federal wildlife management, law enforcement, and fire protection personnel, while operating within the scope of their official duties, are exempt from this restriction. Access by additional parties may be allowed, but must be approved in advance in writing by the BLM Salmon Field Manager. The lands affected by this temporary closure will be signed accordingly on site and a map of the area will be posted with this notice at the Public Lands Center, 1206 South Challis Street, Salmon, Idaho 83467.

Closure orders may be implemented as provided in 43 CFR, subpart 8364.1 and 43 CFR 8341.2. Violations of this closure are punishable by a fine not to exceed $1,000 and/or imprisonment not to exceed 12 months, 43 CFR 9268.3.

Steven Hartmann,
BLM Salmon Field Manager.

[FR Doc. E7-9583 Filed 5-17-07; 8:45 am]

BILLING CODE 4310-GG-P